DEPARTMENT OF HOUSING AND URBAN DEVELOPMENT

[Docket No. FR-6376-N-01]

Announcement of the Housing Counseling Federal Advisory Committee; Notice of Public Meeting

AGENCY: Office of the Assistant Secretary for Housing—Federal Housing Commissioner, Department of Housing and Urban Development (HUD).

ACTION: Notice of Housing Counseling Federal Advisory Committee public meeting.

SUMMARY: This gives notice of a Housing Counseling Federal Advisory Committee (HCFAC) meeting and sets forth the proposed agenda. The HCFAC meeting will be held on Thursday, March 15, 2023. The meeting is open to the public and is accessible to individuals with disabilities.

DATES: The hybrid meeting (virtual and in-person meeting) will be held on Wednesday, March 15, 2023, starting at 1 p.m. Eastern Standard Time (EST).

FOR FURTHER INFORMATION CONTACT: Virginia F. Holman, Housing Program Technical Specialist, Office of Housing Counseling, U.S. Department of Housing and Urban Development, 600 East Broad Street, Richmond, VA 23219; telephone number 540-894-7790 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals may also email HCFACCommittee@hud.gov for information.

SUPPLEMENTARY INFORMATION: HUD is convening a hybrid meeting (virtual and in-person meeting) of the HCFAC on Wednesday, March 15, 2023 from 1:00 p.m. to 4:00 p.m. EST. The virtual meeting will be held via ZOOM. The in-person meeting will be held at HUD Headquarters, 451 7th Street SW, Washington, DC 20410. This meeting notice is provided in accordance with the Federal Advisory Committee Act, 5. U.S.C. App. 10(a)(2).

Draft Agenda—Housing Counseling Federal Advisory Committee Meeting

Wednesday, March 15, 2023

I. Welcome

II. Presentations and HCFAC Member Discussion

III. Public Comment

IV. Next Steps

V. Adjourn

Registration

The public is invited to attend this 3-hour hybrid meeting (virtual and in-person meeting) using ZOOM for the virtual meeting. Advance registration is required to attend. To register, please visit https://us06web.zoom.us/webinar/register/WN_z0ICicjkR8Go5vgJAvW_3A and complete the registration form no later than March 9, 2023. Registration will be closed after March 9, 2023. After submitting the registration form, registrants for the virtual meeting will receive a confirmation email with the meeting link and passcode needed to attend. Registrants asking to attend in-person will receive details about the meeting location and how to access the building If you have any questions about registration, please email HCFACCommittee@ajantaconsulting.com.

Public Comments

The public will have an opportunity to give written and oral comments relative to agenda topics for the HCFAC's consideration. Written comments can be provided on the registration form or by emailing HCFACCommittee@ajantaconsulting.com. All written comments must be provided by March 9, 2023. Please note, written comments will not be read during the meeting, but will be provided to the HCFAC members for their review.

Oral comments may be provided during the meeting. Comments from the public will be received at the end of the meeting to ensure all agenda items can be completed. Each person providing oral comments will be allocated two minutes. This time will be allocated on a first-come first-served basis by HUD. The meeting registration confirmation will contain additional instructions for providing oral comments, virtually or in-person. The HCFAC will not respond to individual written or oral statements during the meeting but will take all public comments into account in its deliberations.

Meeting Records

Records and documents discussed during the meeting, as well as other information about the work of the HCFAC, will be available for public viewing as they become available at https://www.facadatabase.gov/FACA/apex/FACAPublicCommittee?id=a10t0000001gzvQAAQ.

Information on the Committee is also available on hud.gov at https://www.hud.gov/program_offices/housing/sfh/hcc and on HUD Exchange at https://www.hudexchange.info/programs/housing-counseling/federal-advisory-committee/.

Julia R. Gordon,
Assistant Secretary for Housing—Federal Housing Commissioner.

[FR Doc. 2023-02098 Filed 1-31-23; 8:45 am]

BILLING CODE 4210-67-P